DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory and Deregulatory Agenda; Semiannual Summary

AGENCY: Office of the Secretary, DOT.

ACTION: Unified Agenda of Federal Regulatory and Deregulatory Actions (Regulatory Agenda).

SUMMARY: The Regulatory Agenda is a semiannual summary of all current and projected rulemakings, reviews of existing regulations, and completed actions of the Department of Transportation. The Agenda provides the public information about the Department of Transportation's planned regulatory activity for the next 12 months. This information enables the public to participate in the Department's regulatory process. The public is encouraged to submit comments on any aspect of this Agenda.

FOR FURTHER INFORMATION CONTACT:

General

Please direct all general comments and inquiries on the Agenda to Daniel Cohen, Assistant General Counsel for Regulation, Office of the General Counsel, Department of Transportation, 1200 New Jersey Avenue SE, Washington, DC 20590; (202) 366-4702.

Specific

Please direct all comments and inquiries relative to specific items in the Agenda to the individual listed for the regulation or the general rulemaking contact person for the operating administration in Appendix B.

Table of Contents

Supplementary Information:

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

The U.S. Department of Transportation (Department or DOT) issues regulations to make our transportation system safer for all people, grow an inclusive and sustainable economy, reduce inequities across our transportation systems and the communities they affect, help tackle the climate crisis, and spur research and innovation.

To achieve these goals in accordance with Executive Order 12866, “Regulatory Planning and Review,” (58 FR 51735; Oct. 4, 1993), the Department prepares a semiannual Agenda. The Agenda summarizes all current and projected rulemakings, reviews of existing regulations, and completed actions of the Department. These are matters on which action has begun or is projected to begin during the next 12 months or for which action has been completed since the publication of the last Agenda in the fall of 2021.

The Department has issued the National Roadway Safety Strategy, which outlines the Department's comprehensive plan to significantly reduce serious injuries and deaths on our Nation's highways, roads, and streets. This is the first step in the ambitious long-term goal of reaching zero roadway fatalities. The Department is currently working on a number of rulemakings to help achieve this goal. For example, NHTSA is working to facilitate the deployment of new technology, such as automatic emergency braking systems, in certain vehicles to improve the safety of our Nation's roads.

The Department is also moving to rapidly implement the provisions of the Bipartisan Infrastructure Law (BIL).¹ For example, FHWA is currently working on a BIL-required rulemaking to establish minimum standards and requirements for the implementation of a program that will result in a national network of 500,000 electric vehicle charging stations by 2030.

¹ Infrastructure Investment and Jobs Act, Public Law 117-58 (2021).

To help address climate change, the Department is working on rulemakings such as a NHTSA rule to enhance fuel economy for trucks and heavy-duty engines and vehicles. This rulemaking is in addition to other recently-completed NHTSA rules that, in aggregate, establish more stringent fuel economy standards. Similarly, PHMSA is preparing to enhance requirements for detecting and repairing leaks on new and existing natural gas distribution, gas transmission, and gas gathering pipelines.

The Department is also developing rules increasing access to our transportation system for individuals with disabilities and thereby advancing equity in transportation. For example, OST is developing a rulemaking to enhance the safety of air travel for individuals who use wheelchairs and rely on the physical assistance of airline personnel or contractors.

The Department is also working on several consumer protection regulations. For example, OST is developing a rule that would amend DOT's aviation consumer protection program to ensure that, at the time of ticket purchase, consumers have ancillary fee information, including baggage and change fees.

Explanation of Information in the Agenda

An Office of Management and Budget memorandum, dated September 2, 2022, establishes the format for this Agenda.

First, the Agenda is divided by initiating office. Then, the Agenda is divided into five categories: (1) prerule stage; (2) proposed rule stage; (3) final rule stage; (4) long-term actions; and (5) completed actions. For each entry, the Agenda provides the following information: (1) its “significance”; (2) a short, descriptive title; (3) its legal basis; (4) the related regulatory citation in the Code of Federal Regulations; (5) any legal deadline and, if so, for what action (e.g., NPRM, final rule); (6) an abstract; (7) a timetable, including the earliest expected date for when a rulemaking document may publish; (8) whether the rulemaking will affect small entities and/or levels of Government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the Agenda and facilitate tracing further action on the issue; (13) whether the action is subject to the Unfunded Mandates Reform Act; (14) whether the action is subject to the Energy Act; and (15) whether the action is major under the congressional review provisions of the Small Business Regulatory Enforcement Fairness Act.

To keep the operational requirements, current for nonsignificant regulations issued routinely and frequently as a part of an established body of technical requirements (such as the Federal Aviation Administration's Airspace Rules), we only include the general category of the regulations, the identity of a contact office or official, and an indication of the expected number of regulations; we do not list individual regulations.

In the “Timetable” column, we use abbreviations to indicate the documents being considered. ANPRM stands for Advance Notice of Proposed Rulemaking, SNPRM for Supplemental Notice of Proposed Rulemaking, and NPRM for Notice of Proposed Rulemaking. Listing a future date in this column does not mean we have decided to issue a document; it is the earliest date on which a rulemaking document may publish. In addition, these dates are based on current schedules. Information received after the issuance of this Agenda could result in a decision not to take regulatory action or in changes to proposed publication dates. For example, the need for further evaluation could result in a later publication date; evidence of a greater need for the regulation could result in an earlier publication date.

Finally, a dot (•) preceding an entry indicates that the entry appears in the Agenda for the first time.

The internet is the basic means for disseminating the Unified Agenda. The complete Unified Agenda is available online at www.reginfo.gov in a format that offers users a greatly enhanced ability to obtain information from the Agenda database. However, a portion of the Agenda is published in the Federal Register because the Regulatory Flexibility Act (5 U.S.C. 602) mandates publication for the regulatory flexibility agenda.

Accordingly, DOT's printed Agenda entries include only:

1. The agency's Agenda preamble.

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list, see section heading “Explanation of Information on the Agenda”) on these entries is available in the Unified Agenda published on the internet.

Request for Comments

General

DOT's Agenda is intended primarily for the use of the public. Since its inception, the Department has made modifications and refinements that provide the public with more helpful information, as well as making the Agenda easier to use. We would like you, the public, to make suggestions or comments on how the Agenda could be further improved.

Regulatory Flexibility Act

The Department is interested in obtaining information on requirements that have a “significant economic impact on a substantial number of small entities” and, therefore, must be reviewed under the Regulatory Flexibility Act. If you have any suggested regulations, please submit them to the Department, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive Orders 13132 and 13175 require the Department to develop a process to ensure “meaningful and timely input” by State, local, and Tribal officials in the development of regulatory policies that have federalism or tribal implications. These policies are defined in the Executive orders to include regulations that have “substantial direct effects” on States or Indian Tribes, on the relationship between the Federal Government and them, or on the distribution of power and responsibilities between the Federal Government and various levels of Government or Indian tribes. Therefore, we encourage State and local Governments or Indian Tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department about any specific item on the Agenda. Regulatory action, in addition to the items listed, is not precluded.

Dated: January 11, 2023.
John Putnam,
General Counsel, Department of Transportation.

Appendix A—Instructions for Obtaining Copies of Regulatory Documents

To obtain a copy of a specific regulatory document in the Agenda, you should communicate directly with the contact person listed with the regulation at the address below. We note that most, if not all, such documents, including the Semiannual Regulatory Agenda, are available through the internet at http://www.regulations.gov. See appendix C for more information.

Appendix B—General Rulemaking Contact Persons

The following is a list of persons who can be contacted within the Department for general information concerning the rulemaking process within the various operating administrations.

FAA—Brandon Roberts, Executive Director, Office of Rulemaking, 800 Independence Avenue SW, Washington, DC 20591; telephone (202) 267-9677.

FHWA—Jennifer Outhouse, Office of Chief Counsel, 1200 New Jersey Avenue SE, Washington, DC 20590; telephone (202) 366-0761.

FMCSA—Crystal Williams, Regulatory Ombudsman, 1200 New Jersey Avenue SE, Washington, DC 20590; telephone (202) 366-2904.

NHTSA—Terrence Sommers, Office of Chief Counsel, 1200 New Jersey Avenue SE, Washington, DC 20590; telephone (202) 366-7577.

FRA—Amanda Maizel, Office of Chief Counsel, 1200 New Jersey Avenue SE, Washington, DC 20590; telephone (202) 493-8014.

FTA—Chaya Koffman, Office of Chief Counsel, 1200 New Jersey Avenue E, Washington, DC 20590; telephone (202) 366-3101.

GLS—Carrie Mann Lavigne, Chief Counsel, 180 Andrews Street, Massena, NY 13662; telephone (315) 764-3200.

PHMSA—Robert Ross, Office of Chief Counsel, 1200 New Jersey Avenue SE, Washington, DC 20590; telephone (202) 768-1365.

MARAD—Gabriel Chavez, Office of Chief Counsel, Maritime Administration, 1200 New Jersey Avenue SE, Washington, DC 20590; telephone (202) 366-2621.

OST—Daniel Cohen, Assistant General Counsel for Regulation, 1200 New Jersey Avenue SE, Washington, DC 20590; telephone (202) 366-4723.

Appendix C—Public Rulemaking Dockets

All comments submitted via the internet are submitted through http://www.regulations.gov. This website allows the public to search, view, download, and comment on all Federal agency rulemaking documents in one central online system. The above referenced internet address also allows the public to sign up to receive notification when certain documents are placed in the dockets.

Appendix D—Review Plans for Section 610 and Other Requirements

The Department of Transportation has long recognized the importance of regularly reviewing its existing regulations to determine whether they need to be revised or revoked. Our Regulatory Policies and Procedures require such reviews. DOT also has responsibilities under section 610 of the Regulatory Flexibility Act, Executive Order 12866, “Regulatory Planning and Review,” and Executive Order 13563, “Improving Regulation and Regulatory Review,” 76 FR 3821 (January 18, 2011) to conduct such reviews. We are committed to continuing our reviews of existing rules and, if it is needed, will initiate rulemaking actions based on these reviews. Generally, each DOT operating administration divides its rules into 10 different groups and plans to analyze one group each year. In each Fall Agenda, the operating administration will publish the results of the analyses it has completed during the previous year.

Appendix D—Review Plans for Section 610 and Other Requirements

Part I—The Plan

General

The Department of Transportation has long recognized the importance of regularly reviewing its existing regulations to determine whether they need to be revised or revoked. Our Regulatory Policies and Procedures require such reviews. DOT also has responsibilities under section 610 of the Regulatory Flexibility Act, Executive Order 12866, “Regulatory Planning and Review,” and Executive Order 13563, “Improving Regulation and Regulatory Review,” 76 FR 3821 (January 18, 2011) to conduct such reviews. We are committed to continuing our reviews of existing rules and, if it is needed, will initiate rulemaking actions based on these reviews. The Department began a new 10-year review cycle with the Fall 2018 Agenda.

Section 610 Review Plan

Section 610 requires that we conduct reviews of rules that: (1) have been published within the last 10 years; and (2) have a “significant economic impact on a substantial number of small entities” (SEISNOSE). It also requires that we publish in the Federal Register each year a list of any such rules that we will review during the next year. The Office of the Secretary and each of the Department's Operating Administrations have a 10-year review plan. These reviews comply with section 610 of the Regulatory Flexibility Act.

Changes to the Review Plan

Some reviews may be conducted earlier than scheduled. For example, events, such as accidents, may result in the need to conduct earlier reviews of some rules. Other factors may also result in the need to make changes; for example, we may make changes in response to public comment on this plan or in response to a presidentially mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Most agencies provide historical information about the reviews that have occurred over the past 10 years. Thus, Year 1 (2018) begins in the fall of 2018 and ends in the fall of 2019; Year 2 (2019) begins in the fall of 2019 and ends in the fall of 2020, and so on. The exception to this general rule is the FAA, which provides information about the reviews it completed for this year and prospective information about the reviews it intends to complete in the next 10 years. Thus, for FAA Year 1 (2017) begins in the fall of 2017 and ends in the fall of 2018; Year 2 (2018) begins in the fall of 2018 and ends in the fall of 2019, and so on. We request public comment on the timing of the reviews. For example, is there a reason for scheduling an analysis and review for a particular rule earlier than we have? Any comments concerning the plan or analyses should be submitted to the regulatory contacts listed in appendix B, General Rulemaking Contact Persons.

Section 610 Review

The agency will analyze each of the rules in each year's group to determine whether any rule has a SEISNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to the Department early in the analysis year concerning the small entity impact of the rules to help us in making our determinations.

In each Fall Agenda, the agency will publish the results of the analyses it has completed during the previous year. For rules that had a negative finding on SEISNOSE, we will give a short explanation (e.g., “these rules only establish petition processes that have no cost impact” or “these rules do not apply to any small entities”). For parts, subparts, or other discrete sections of rules that do have a SEISNOSE, we will announce that we will be conducting a formal section 610 review during the following 12 months. At this stage, DOT will add an entry to the Agenda in the pre-rulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each Fall Agenda, the agency will also publish information on the results of the examinations completed during the previous year.

Part III—List of Pending Section 610 Reviews

The Agenda identifies the pending DOT section 610 Reviews by inserting “(Section 610 Review)” after the title for the specific entry. For further information on the pending reviews, see the Agenda entries at www.reginfo.gov. For example, to obtain a list of all entries that are in section 610 Reviews under the Regulatory Flexibility Act, a user would select the desired responses on the search screen (by selecting “advanced search”) and, in effect, generate the desired “index” of reviews.

Office of the Secretary

Section 610 and Other Reviews

Year | Regulations to be reviewed | Analysis year | Review year
1 | 49 CFR parts 91 through 99 | 2018 | 2019
| 14 CFR parts 200 through 212
| 48 CFR parts 1201 through 1224
2 | 48 CFR parts 1227 through 1253 and new parts and subparts | 2019 | 2020
3 | 14 CFR parts 213 through 232 | 2020 | 2021
4 | 14 CFR parts 234 through 254 | 2021 | 2022
5 | 14 CFR parts 255 through 298 and 49 CFR part 40 | 2022 | 2023
6 | 14 CFR parts 300 through 373 | 2023 | 2024
7 | 14 CFR parts 374 through 398 | 2024 | 2025
8 | 14 CFR part 399 and 49 CFR parts 1 through 15 | 2025 | 2026
9 | 49 CFR parts 17 through 28 | 2026 | 2027
10 | 49 CFR parts 29 through 39 and parts 41 through 89 | 2027 | 2028

Year 10 (Fall 2018) List of Rules Analyzed and Summary of Results

49 CFR part 30—Denial of Public Works Contracts to Suppliers of Goods and Services of Countries that Deny Procurement Market Access to U.S. Contractors

• Section 610: OST conducted a Section 610 review of this part and found no SEISNOSE.

• General: No changes are needed. These regulations are cost effective and impose the least burden. OST's plain language review of these rules indicates no need for substantial revision.

49 CFR part 31—Program Fraud Civil Remedies

• Section 610: OST conducted a Section 610 review of this part and found no SEISNOSE.

• General: No changes are needed. These regulations are cost effective and impose the least burden. OST's plain language review of these rules indicates no need for substantial revision.

49 CFR part 37—Transportation Services for Individuals with Disabilities (ADA)

• The U.S. Department of Transportation (DOT) Office of the Secretary (OST), with the assistance of its Operating Administrations, including the Federal Transit Administration (FTA), is in the process of issuing multiple rulemakings that call for changes to the regulatory language in 49 CFR part 37. Specifically, OST is administering a rulemaking titled: “Transportation for Individuals with Disabilities; Service Animals and Technical Corrections” (RIN 2105-AF08) which would propose changes to the definition of “service animal” in 49 CFR part 37.3, and several other technical corrections to outdated provisions, such as that referencing a make and model of a lift that has been out of production for three decades (49 CFR part 37.165(g)). In addition, OST is developing a rulemaking titled “Equitable Access to Transit Facilities” (RIN 2105-AF07) in which DOT would consider requirements for secondary elevators, induction loops, and improvements in wayfinding in transit stations. In conjunction with these pending rulemakings, DOT will need to conduct a section 610 review of this part, and, if appropriate, initiate additional rulemaking(s) to minimize the SEISNOSE, bring the regulation into compliance with statutory requirements, and/or revise the regulation for plain language.

49 CFR part 38—Americans with Disabilities Act (ADA) Accessibility Specifications for Transportation Vehicles

• The U.S. Department of Transportation (DOT) Office of the Secretary (OST), with the assistance of its Operating Administrations, including the Federal Transit Administration (FTA), is in the process of issuing a rulemaking that calls for changes to the regulatory language in 49 CFR part 38. Specifically, OST is developing a rulemaking titled: “Transportation for Individuals with Disabilities; Adoption of Accessibility Standards for Buses and Vans” (RIN 2105-AF09) in order to consider new standards for accessible buses and vans based on updated accessibility guidelines issued by the U.S. Access Board (USAB) on December 14, 2016. In conjunction with this pending rulemaking, OST will need to conduct a Section 610 review of this part, and, if appropriate, initiate additional rulemaking(s) to minimize the SEISNOSE, bring the regulation into compliance with statutory requirements, and/or revise the regulation for plain language.

49 CFR part 39—Transportation for Individuals with Disabilities: Passenger Vessels

• Section 610: The U.S. Department of Transportation (DOT) Office of the Secretary (OST) conducted a section 610 review of this part and found SEISNOSE. The regulation requires owners and operators of passenger vessels to (1) ensure their vessels and related facilities are accessible; and (2) take steps to accommodate passengers with disabilities. These requirements can entail significant investments from owners and operators of passenger vessels, many of whom qualify as small businesses as defined by the U.S. Small Business Administration. OST plans to explore whether it is appropriate to initiate a rulemaking to revise this regulation to minimize the SEISNOSE.

• General: The definition of “service animal” contained in 49 CFR 39.3 is inconsistent with the amendments made by the Department of Justice (DOJ) on July 23, 2010, (see 28 CFR 35.104 and 35.136), as well as the definition under DOT's Air Carrier Access Act regulations (see 14 CFR 382.3), as amended on December 10, 2020. The current requirement under 49 CFR 39.3 defines service animals as “any guide dog, signal dog, or other animal individually trained to work or perform tasks for an individual with a disability.” DOJ defines a service animal in terms of “any dog that is individually trained to do work or perform tasks for the benefit of an individual with a disability, including a physical, sensory, psychiatric, intellectual, or other mental disability” (see 28 CFR 35.104) (emphasis added). And under 28 CFR 35.136(i), reasonable modifications in policy and practices must be made where necessary to accommodate miniature horses as service animals. As such, failure to update this regulation will leave the passenger vessel industry subject to accommodating unusual service animals, such as reptiles and primates. On the other hand, updating the definition of “service animal” under 49 CFR 39.3 will ensure consistency across Federal regulations, which is essential to removing the confusion that results for individuals with service animals when different standards apply to different public facilities and modes of transportation. OST has already recognized the need to update the “service animal” definition contained in 49 CFR 37.3 for the aforementioned reasons and is in the process of developing a rulemaking titled: “Transportation for Individuals with Disabilities; Service Animals and Technical Corrections” (RIN 2105-AF08) in order to make the necessary change.

In addition, 49 CFR 39.31 addresses the ability of passenger vessel owners or operators to limit access to or use of their vessels because a passenger has a communicable disease. The regulation permits owners or operators to limit access or use where: (1) a U.S. or international public health authority has determined that persons with a particular condition should not be permitted to travel or should travel only under specified conditions; or (2) an individual has a condition that is both readily transmissible by casual contact in the context of traveling on or using a passenger vessel and has serious health consequences. The regulation provides examples of conditions that passengers may have (e.g., a common cold, HIV/AIDS, SARS, or a norovirus) and the appropriate actions (if any) that passenger vessel owners or operators may take in response. However, the regulation does not address how passenger vessel owners or operators should handle passengers with the novel Coronavirus Disease 2019 (COVID-19). Given the ubiquity of the virus and its likely presence and impact in the future, the regulation should be revised to expressly address COVID-19 in the example section.

As a result, OST will need to conduct a rulemaking to bring this regulation into compliance with the statutory requirements and to bring consistency to the regulatory regime governing different modes of transportation. OST's plain language review of this regulation indicates no need for substantial revision.

It is also worth noting that the U.S. Access Board (USAB) is in the process of developing guidelines under the Americans with Disabilities Act (ADA) for access to ferries, cruise ships, excursion boats, and other large passenger vessels. Those guidelines have not been finalized yet, however, and OST proposes incorporating only final guidelines into DOT's regulations.

49 CFR part 71—Standard Time Zone Boundaries

• Section 610: OST has reviewed these regulations and found no SEISNOSE.

• General: OST has reviewed these regulations and found that some nonsubstantive technical corrections are needed. OST is exploring initiating a rulemaking to make these corrections.

49 CFR part 79—Medals of Honor

• Section 610: The U.S. Department of Transportation (DOT) Office of the Secretary (OST) conducted a Section 610 review of this part and found no SEISNOSE.

• General: No changes are needed. These regulations are cost effective and impose the least burden. OST's plain language review of these rules indicates no need for substantial revision.

Year 1 (Fall 2018) List of Rules That Are Under Ongoing Analysis

• Section 610: OST conducted a Section 610 review of this part and found no SEISNOSE.

• General: Since the rule was enacted, the DOT Operating Administrations have changed. As a result, the agencies listed at 49 CFR 92.5(g)—Definitions should be revised to:

(g) DOT operating element (see 49 CFR 1.3) means a DOT Operating Administration including—

(1) The Office of the Secretary.

(2) Federal Aviation Administration.

(3) Federal Highway Administration.

(4) Federal Railroad Administration.

(5) National Highway Traffic Safety Administration.

(6) Office of the Inspector General.

(7) St. Lawrence Seaway Development Corporation.

(8) Maritime Administration.

OST will be conducting a rulemaking to make these revisions. These regulations are cost effective and impose the least burden. OST's plain language review of these rules indicates no need for substantial revision.

49 CFR part 93—Aircraft Allocation

49 CFR part 98—Enforcement of Restrictions on Post-Employment Activities

• Section 610: OST conducted a Section 610 review of this part and found no SEISNOSE.

• General: Since the rule was enacted, the U.S. Department of Transportation's organizational structure changed, and as a result the list of DOT Operating Administrations (OAs) listed in 49 CFR 98.2 must be updated to reflect the current listing of DOT OAs. The following changes are needed in 49 CFR 89.2(a): (1) references to the U.S. Coast Guard (at 49 CFR 98.2(a)(1)), Urban Mass Transportation Administration (at 49 CFR 98.2(a)(6),and Research and Special Programs Administration (at 49 CFR 98.2(a)(8) should be deleted; (2) reference to the Saint Lawrence Seaway Development Corporation at 49 CFR 98.2(a)(7) should be changed to the Great Lakes Saint Lawrence Seaway Development Corporation; and (3) references to the Federal Motor Carrier Safety Administration, Federal Transit Administration, and Pipeline and Hazardous Materials Safety Administration should be added. In addition, since the rule was enacted, the title of the Assistant General Counsel for Environmental, Civil Rights, and General Law has been updated to the Assistant General Counsel for General Law, so the following changes are needed in 49 CFR 98.3 and 98.4: references to the Assistant General Counsel for Environmental, Civil Rights, and General Law should be updated to the Assistant General Counsel for General Law. OST's plain language review of these rules indicates no need for substantial revision.

49 CFR part 99—Employee Responsibilities and Conduct

• Section 610: OST conducted a Section 610 review of this part and found no SEISNOSE.

• General: No changes are needed. These regulations are cost effective and impose the least burden. OST's plain language review of these rules indicates no need for substantial revision.

14 CFR part 200—Definitions and Instructions

14 CFR part 201—Air Carrier Authority under Subtitle VII of Title 49 of the United States Code [Amended]

14 CFR part 203—Waiver of Warsaw Convention Liability Limits and Defenses

14 CFR part 204—Data to Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

48 CFR part 1201—Federal Acquisition Regulations System

48 CFR part 1202—Definitions of Words and Terms

48 CFR part 1203—Improper Business Practices and Personal Conflicts of Interest

48 CFR part 1204—Administrative Matters

48 CFR part 1205—Publicizing Contract Actions

48 CFR part 1206—Competition Requirements

48 CFR part 1207—Acquisition Planning

48 CFR part 1208-1210—[Reserved]

48 CFR part 1211—Describing Agency Needs

48 CFR part 1213—Simplified Acquisition Procedures

48 CFR part 1214—Sealed Bidding

48 CFR part 1215—Contracting by Negotiation

48 CFR part 1216—Types of Contracts

48 CFR part 1217—Special Contracting Methods

48 CFR part 1219—Small Business Programs

48 CFR part 1222—Application of Labor Laws to Government Acquisitions

48 CFR part 1223—Environment, Energy and Water Efficiency, Renewable Energy Technologies, Occupational Safety, and Drug-Free Workplace

48 CFR part 1224—Protection of Privacy and Freedom of Information

Year 2 (Fall 2019) List of Rules Analyzed and Summary of Results

48 CFR parts 1227 through 1253 and new parts and subparts

48 CFR part 1227—Patents, Data, and Copyrights

48 CFR part 1228—Bonds and Insurance

48 CFR part 1231—Contract Costs Principles and Procedures

48 CFR part 1232—Contract Financing

48 CFR part 1233—Protests, Disputes, and Appeals

48 CFR part 1235—Research and Development Contracting

48 CFR part 1236—Construction and Architect-Engineer Contracts

48 CFR part 1237—Service Contracting

48 CFR part 1239—Acquisition of Information Technology

48 CFR part 1242—Contract Administration and Audit Services

48 CFR part 1245—Government Contracting

48 CFR part 1246—Quality Assurance

48 CFR part 1247—Transportation

48 CFR part 1252—Solicitation Provisions and Contract Clauses

48 CFR part 1253—Forms

DOT determined that updates needed to be made to the regulations identified under Year 2. The regulations were updated as part of RIN 2105-AE26 (Revisions to the Transportation Acquisition Regulations).

Year 3 (Fall 2020) List of Rules Analyzed and Summary of Results

14 CFR parts 213 through 232

14 CFR 213—Terms, Conditions and Limitations of Foreign Air Carrier Permits

Section 610: OST conducted a Section 610 review of this part and found no SEISNOSE.

General: No changes are needed. These regulations are cost effective and impose the least burden.

14 CFR 214—Terms, Conditions, and Limitations for Foreign Air Carrier Permits Authorizing Charter Transportation Only

• Section 610: OST conducted a Section 610 review of this part and found no SEISNOSE.

• General: No changes are needed. These regulations are cost effective and impose the least burden.

14 CFR 215—Use and Change of Names of Air Carriers, Foreign Air Carriers and Commuter Air Carriers

Section 610: OST conducted a Section 610 review of this part and found no SEISNOSE.

General: No changes are needed. These regulations are cost effective and impose the least burden.

14 CFR 216—Commingling of Blind Sector Traffic by Foreign Air Carriers

Section 610: OST conducted a Section 610 review of this part and found no SEISNOSE.

General: No changes are needed. These regulations are cost effective and impose the least burden.

14 CFR 218—Lease by Foreign Air Carrier or Other Foreign Person of Aircraft with Crew

Section 610: OST conducted a Section 610 review of this part and found no SEISNOSE.

General: No changes are needed. These regulations are cost effective and impose the least burden.

14 CFR 221—TARIFFS

Section 610: OST conducted a Section 610 review of this part and found no SEISNOSE.

General: OST reviewed and has found that a non-substantive technical correction is necessary and will explore options to make this correction.

14 CFR 222—Intermodal Cargo Services by Foreign Air Carriers

Section 610: OST conducted a Section 610 review of this part and found no SEISNOSE.

General: No changes are needed. These regulations are cost effective and impose the least burden.

14 CFR 223—Free and Reduced-Rate Transportation

Section 610: OST conducted a Section 610 review of this part and found no SEISNOSE.

General: No changes are needed. These regulations are cost effective and impose the least burden.

Year 4 (Fall 2021) List of Rules Analyzed and Summary of Results

14 CFR parts 234 through 254

14 CFR 234—Airline Service Quality Performance Reports

Section 610: OST conducted a Section 610 review of this part and found no SEISNOSE.

General: OST's review revealed some outdated references and rule text in Part 234. In addition, improvements to portions of the rule text are needed for plain language. Since the Department last amended Part 234, it has received feedback from airlines and others on the Part 234 requirements addressing airline reporting of cancelled and delayed flights, airline categorization of cancellations and delays, and airline reporting of mishandled baggage data, which the Department is considering. The Department has initiated two rulemakings to evaluate changes to Part 234, “Improving Accuracy of Flight Cancellation Reporting” (2105-AE68) and “Reporting of Data for Mishandled Baggage and Wheelchairs and Scooters Transported in Aircraft Cargo Compartments II” (RIN: 2105-AE77).

14 CFR 235—Reports by Air Carriers on Incidents Involving Animals During Air Transportation

Section 610: OST conducted a Section 610 review of this part and found no SEISNOSE.

General: No changes are needed. These regulations are cost effective and impose the least burden.

14 CFR 240—Inspections of Accounts and Property

Section 610: OST conducted a Section 610 review of this part and found no SEISNOSE.

General: Update required to reflect office name change from “Office of Aviation Enforcement and Proceedings” to “Office of Aviation Consumer Protection” in section 240.1(b). Updates should be considered to section 240.1(c) credential language and section 240.2 to permit DOT access to physical facilities of ticket agents: authorization is granted to enter/inspect physical property of carriers (but not explicitly ticket agents) while authorization to copy documents/records extends to both ticket agents and carriers

14 CFR 241—Uniform System of Accounts and Reports for Large Certificated Air Carriers

Section 610: OST conducted a Section 610 review of this part and found no SEISNOSE.

General: No changes are needed. These regulations are cost effective and impose the least burden.

14 CFR 243—Passenger Manifest Information

Section 610: OST conducted a Section 610 review of this part and found no SEISNOSE.

General: No changes are needed. These regulations are cost effective and impose the least burden.

14 CFR 244—Reporting Tarmac Delay Data

Section 610: OST conducted a Section 610 review of this part and found no SEISNOSE.

General: OST reviewed and has found that a non-substantive technical correction is necessary and will explore options to make this correction.

14 CFR 247—Direct Airport-to-Airport Mileage Records

Section 610: OST conducted a Section 610 review of this part and found no SEISNOSE.

General: No changes are needed. These regulations are cost effective and impose the least burden.

14 CFR 248—Submission of Audit Reports

Section 610: OST conducted a Section 610 review of this part and found no SEISNOSE.

General: No changes are needed. These regulations are cost effective and impose the least burden.

14 CFR 249—Preservation of Air Carrier Records

Section 610: OST conducted a Section 610 review of this part and found no SEISNOSE.

General: No changes are needed. These regulations are cost effective and impose the least burden.

14 CFR 250—Oversales

Section 610: OST conducted a Section 610 review of this part and found no SEISNOSE.

General: No changes are needed. These regulations are cost effective and impose the least burden.

14 CFR 251—Carriage of Musical Instruments

Section 610: OST conducted a Section 610 review of this part and found no SEISNOSE.

General: No changes are needed. These regulations are cost effective and impose the least burden.

14 CFR 252—Smoking Aboard Aircraft

Section 610: OST conducted a Section 610 review of this part and found no SEISNOSE.

General: No changes are needed. These regulations are cost effective and impose the least burden.

14 CFR 253—Notice of Terms of Contract of Carriage

Section 610: OST conducted a Section 610 review of this part and found no SEISNOSE.

General: No changes are needed. These regulations are cost effective and impose the least burden.

14 CFR 254—Domestic Baggage Liability

Section 610: OST conducted a Section 610 review of this part and found no SEISNOSE.

General: No changes are needed. These regulations are cost effective and impose the least burden.

Federal Aviation Administration

Section 610 and Other Reviews

The Federal Aviation Administration (FAA) has elected to use the two-step, two-year process used by most Department of Transportation (DOT) modes in past plans. As such, the FAA has divided its rules into 10 groups as displayed in the table below. During the first year (the “analysis year”), all rules published during the previous 10 years within a 10% block of the regulations will be analyzed to identify those with a significant economic impact on a substantial number of small entities (SEISNOSE). During the second year (the “review year”), each rule identified in the analysis year as having a SEISNOSE will be reviewed in accordance with section 610 (b) to determine if it should be continued without change or changed to minimize impact on small entities. Results of those reviews will be published in the DOT Semiannual Regulatory Agenda.

Year | Regulations to be reviewed | Analysis year | Review year
1 | 14 CFR parts 141 through 147 and parts 170 through 187 | 2020 | 2021
2 | 14 CFR parts 189 through 198 and parts 1 through 16 | 2021 | 2022
3 | 14 CFR parts 17 through 33 | 2022 | 2023
4 | 14 CFR parts 34 through 39 and parts 400 through 405 | 2023 | 2024
5 | 14 CFR parts 43 through 49 and parts 406 through 415 | 2024 | 2025
6 | 14 CFR parts 60 through 77 | 2025 | 2026
7 | 14 CFR parts 91 through 107 | 2026 | 2027
8 | 14 CFR parts 417 through 460 | 2027 | 2028
9 | 14 CFR parts 119 through 129 and parts 150 through 156 | 2028 | 2029
10 | 14 CFR parts 133 through 139 and parts 157 through 169 | 2029 | 2030

Defining SEISNOSE for FAA Regulations

The RFA does not define “significant economic impact.” Therefore, there is no clear rule or number to determine when a significant economic impact occurs. However, the Small Business Administration (SBA) states that significance should be determined by considering the size of the business, the size of the competitor's business and the impact the same regulation has on larger competitors.

Likewise, the RFA does not define “substantial number.” However, the legislative history of the RFA suggests that a substantial number must be at least one but does not need to be an overwhelming percentage such as more than half. The SBA states that the substantiality of the number of small businesses affected should be determined on an industry-specific basis.

This analysis consisted of the following three steps:

1. Review of the number of small entities affected by the amendments to parts 141 through 147 and parts 170 through 187.

2. Identification and analysis of all amendments to parts 141 through 147 and parts 170 through 187 since July 2010 to determine whether any still have or now have a SEISNOSE.

3. Review of the FAA's regulatory flexibility assessment of each amendment performed as required by the RFA.

Year 2 (Fall 2021) List of Rules Analyzed

14 CFR part 1—Definitions and abbreviations

14 CFR part 3—General requirements

14 CFR part 11—General rulemaking procedures

14 CFR part 13—Investigative and enforcement procedures

14 CFR part 14—Rules implementing the Equal Access to Justice Act of 1980

14 CFR part 15—Administrative claims under Federal Tort Claims Act

14 CFR part 16—Rules of practice for Federally-assisted airport enforcement proceedings

14 CFR part 189—Use of Federal Aviation Administration communications system

14 CFR part 193—Protection of voluntarily submitted information

14 CFR part 198—Aviation insurance

Year 1 (Fall 2020) List of Rules Analyzed and Summary of Results

14 CFR part 141—Pilot Schools

14 CFR part 142—Training Centers

14 CFR part 143—Reserved

14 CFR part 144—Does not exist

14 CFR part 145—Repair Stations

14 CFR part 146—Does not exist

14 CFR part 147—Aviation Maintenance Technician Schools

14 CFR part 170—Establishment and Discontinuance Criteria for Air Traffic Control Services and Navigational Facilities

14 CFR part 171—Non-Federal Navigation Facilities

14 CFR part 172—Through 182 Does not exist

14 CFR part 183—Representatives of the Administrator

14 CFR part 184—Does not exist

Year 1 (2020) List of Rules Analyzed and Summary of Results

14 CFR part 141—Pilot Schools

• Section 610: The agency conducted a Section 610 review of this part and found no SEISNOSE.

• General: No changes are needed.

14 CFR part 142—Training Centers

• Section 610: The agency conducted a Section 610 review of this part and found no SEISNOSE.

• General: No changes are needed.

14 CFR part 145—Repair Stations

• Section 610: The agency conducted a Section 610 review of this part and found no SEISNOSE.

• General: No changes are needed.

14 CFR part 147—Aviation Maintenance Technician Schools

• Section 610: The agency conducted a Section 610 review of this part and found no SEISNOSE.

• General: No changes are needed.

14 CFR part 170—Establishment and Discontinuance Criteria for Air Traffic Control Services and Navigational Facilities

• Section 610: The agency conducted a Section 610 review of this part and found no SEISNOSE.

• General: No changes are needed.

14 CFR part 171: Non-Federal Navigational Facilities

• Section 610: The agency conducted a Section 610 review of this part and found no amendments to 14 CFR 185 since July 2010. Thus, no SEISNOSE exists in this part.

• General: No changes are needed.

14 CFR part 183: Representatives of the Administrator

• Section 610: The agency conducted a Section 610 review of this part and found no SEISNOSE.

• General: No changes are needed.

14 CFR part 185: Testimony by Employees and Production of Records in Legal Proceedings, and Service of Legal Process and Pleadings

• Section 610: The agency conducted a section 610 review of this part and found no amendments to 14 CFR 185 since July 2010. Thus, no SEISNOSE exists in this part.

• General: No changes are needed.

14 CFR part 187: Fees

• Section 610: The agency conducted a section 610 review of this part and found no SEISNOSE.

• General: No changes are needed.

Federal Highway Administration

Section 610 and Other Reviews

Year | Regulations to be reviewed | Analysis year | Review year
1 | None | 2018 | 2019
2 | 23 CFR parts 1 to 260 | 2019 | 2020
3 | 23 CFR parts 420 to 470 | 2020 | 2021
4 | 23 CFR part 500 | 2021 | 2022
5 | 23 CFR parts 620 to 637 | 2022 | 2023
6 | 23 CFR parts 645 to 669 | 2023 | 2024
7 | 23 CFR parts 710 to 924 | 2024 | 2025
8 | 23 CFR parts 940 to 973 | 2025 | 2026
9 | 23 CFR parts 1200 to 1252 | 2026 | 2027
10 | New parts and subparts | 2027 | 2028

Federal-Aid Highway Program

The Federal Highway Administration (FHWA) has adopted regulations in title 23 of the CFR, chapter I, related to the Federal-Aid Highway Program. These regulations implement and carry out the provisions of Federal law relating to the administration of Federal aid for highways. The primary law authorizing Federal aid for highways is chapter I of title 23 of the U.S.C. 145, which expressly provides for a federally assisted State program. For this reason, the regulations adopted by the FHWA in title 23 of the CFR primarily relate to the requirements that States must meet to receive Federal funds for construction and other work related to highways. Because the regulations in title 23 primarily relate to States, which are not defined as small entities under the Regulatory Flexibility Act, the FHWA believes that its regulations in title 23 do not have a significant economic impact on a substantial number of small entities. The FHWA solicits public comment on this preliminary conclusion.

Year 4 (Fall 2021) List of Rules Analyzed and a Summary of the Results

23 CFR part 500—Management and Monitoring Systems

• Section 610: No SEISNOSE. No small entities are affected.

• General: Section 1519(b) of the Moving Ahead for Progress in the 21st Century (MAP-21) Act (Pub. L. 112-141) repealed section 23 U.S.C. 303, which is the statutory basis for this regulation. FHWA plans on removing these obsolete regulations from Part 23, Code of Federal Regulations, as part of its rulemaking in RIN 2125-AF96.

Year 5 (Fall 2022) List of Rules That Will Be Analyzed During the Next Year

23 CFR part 620—Engineering

23 CFR part 625—Design Standards for Highways

23 CFR part 626—Pavement Policy

23 CFR part 627—Value Engineering

23 CFR part 630—Preconstruction Procedures

23 CFR part 633—Required Contract Provisions

23 CFR part 635—Construction and Maintenance

23 CFR part 636—Design-build Contracting

23 CFR part 637—Construction Inspection and Approval

Federal Motor Carrier Safety Administration

Section 610 and Other Reviews

Year | Regulations to be reviewed | Analysis year | Review year
1 | 49 CFR part 386 | 2018 | 2019
2 | 49 CFR part 385 | 2019 | 2020
3 | 49 CFR parts 382 and 383 | 2020 | 2021
4 | 49 CFR part 380 | 2021 | 2022
5 | 49 CFR part 387 | 2022 | 2023
6 | 49 CFR part 398 | 2023 | 2024
7 | 49 CFR part 392 | 2024 | 2025
8 | 49 CFR part 375 | 2025 | 2026
9 | 49 CFR part 367 | 2026 | 2027
10 | 49 CFR part 395 | 2027 | 2028

Year 4 (2021) List of Rules With Ongoing Analysis

49 CFR part 380—Special Training Requirements

1. Section 610: FMCSA analyzed 49 CFR part 380 but found no SEIOSNOSE. 49 CFR part 380 regulates two distinct training-related functions. The first presents requirements for longer combination vehicles (LCVs) and associated driver instructors; the second establishes minimum entry level commercial motor vehicle (CMV) training requirements. The major change is the introduction of the Entry-Level Driver Training (ELDT) rule which has a compliance date of February 7, 2022. The rule was updated to ensure entry-level drivers seeking a CDL or a hazardous material (H), passenger (P), or school bus (S) endorsement received quality training. Small motor carriers and training providers are affected. Entry-level drivers are not small entities as defined by the U.S. Small Business Administration (SBA) and are therefore not included in the analysis. The ELDT rule requires motor carriers to maintain minimal training records. Motor carriers and training/educational institutions seeking to register on the Training Provider Registry (TPR) as training providers will incur some rule-driven administrative costs and prudent business-related costs.

2. General: There is no need for substantial revision. These regulations provide necessary/clear guidance to industry employers, drivers, and training providers. The regulations are written consistent with plain language guidelines, are cost effective, and impose the least economic burden to the industry.

Year 5 (2022) List of Rules That Will Be Analyzed During the Year

49 CFR part 387—Minimum Levels of Financial Responsibility for Motor Carriers.

National Highway Traffic Safety Administration

Section 610 and Other Reviews

Year | Regulations to be reviewed | Analysis year | Review year
1 | 49 CFR 571.223 through 571.500, and parts 575 and 579 | 2018 | 2019
2 | 23 CFR part 1300 | 2019 | 2020
3 | 49 CFR parts 501 through 526 and 571.213 | 2020 | 2021
4 | 49 CFR 571.131, 571.217, 571.220, 571.221, and 571.222 | 2021 | 2022
5 | 49 CFR 571.101 through 571.110, and 571.135, 571.136, 571.138 and 571.139 | 2022 | 2023
6 | 49 CFR 571.141, and 49 CFR parts 529 through 578, except parts 571 and 575 | 2023 | 2024
7 | 49 CFR 571.111 through 571.129 and parts 580 through 588 | 2024 | 2025
8 | 49 CFR 571.201 through 571.212 | 2025 | 2026
9 | 49 CFR 571.214 through 571.219, except 571.217 | 2026 | 2027
10 | 49 CFR parts 591 through 595 and new parts and subparts | 2027 | 2028

Years 1 Through 3 (Fall 2019-2021) List of Rules With Ongoing Analysis

49 CFR part 571.213—Child Restraint Systems

49 CFR part 571.223—Rear Impact Guards

49 CFR part 571.224—Rear Impact Protection

49 CFR part 571.225—Child Restraint Anchorage Systems

49 CFR part 571.226—Ejection Mitigation

49 CFR part 571.301—Fuel System Integrity

49 CFR part 571.302—Flammability of Interior Materials

49 CFR part 571.303—Fuel System Integrity of Compressed Natural Gas Vehicles

49 CFR part 571.304—Compressed Natural Gas Fuel Container Integrity

49 CFR part 571.305—Electric-Powered Vehicles: Electrolyte Spillage and Electrical Shock Protection

49 CFR part 571.401—Interior Trunk Release

49 CFR part 571.403—Platform Lift Systems for Motor Vehicles

49 CFR part 571.404—Platform Lift Installations in Motor Vehicles

49 CFR part 571.500—Low-Speed Vehicles

49 CFR part 501—Organization and Delegation of Powers and Duties

49 CFR part 509—OMB Control Numbers for Information Collection Requirements

49 CFR part 510—Information Gathering Powers

49 CFR part 511—Adjudicative Procedures

49 CFR part 512—Confidential Business Information

49 CFR part 520—Procedures for Considering Environmental Impacts

49 CFR part 523—Vehicle Classification

49 CFR part 525—Exemptions from Average Fuel Economy Standards

49 CFR part 526—Petitions and Plans for Relief under the Automobile Fuel Efficiency Act of 1980

49 CFR part 575—Consumer Information

49 CFR part 579—Reporting of Information and Communications About Potential Defects

23 CFR part 1200—Uniform Procedures for State Highway Safety Grant Programs

23 CFR part 1300—Uniform Procedures for State Highway Safety Grant Programs

Year 4 (Fall 2022) List of Rules That Will Be Analyzed During Next Year

49 CFR part 571.131—School Bus Pedestrian Safety Devices

49 CFR part 571.217—Bus Emergency Exits and Window Retention and Release

49 CFR part 571.220—School Bus Rollover Protection

49 CFR part 571.221—School Bus Body Joint Strength

49 CFR part 571.222—School Bus Passenger Seating and Crash Protection

Federal Railroad Administration

Section 610 and Other Reviews

Year | Regulations to be reviewed | Analysis year | Review year
1 | 49 CFR parts 200, 207, 209, and 210 | 2018 | 2019
2 | 49 CFR parts 211, 212, 213, 214, and 215 | 2019 | 2020
3 | 49 CFR parts 216, 217, 218, 219, and 220 | 2020 | 2021
4 | 49 CFR parts 221, 222, 223, 224, and 225 | 2021 | 2022
5 | 49 CFR parts 227, 228, 229, 230, and 231 | 2022 | 2023
6 | 49 CFR parts 232, 233, 234, 235, and 236 | 2023 | 2024
7 | 49 CFR parts 237, 238, 239, 240, and 241 | 2024 | 2025
8 | 49 CFR parts 242, 243, 244, 250, and 256 | 2025 | 2026
9 | 49 CFR parts 261, 262, 264, 266, and 268 | 2026 | 2027
10 | 49 CFR parts 269, 270, 271, 272, and 273 | 2027 | 2028

Year 4 (Fall 2021) List of Rules Analyzed and a Summary of Results

49 CFR part 221—Rear End Marking Device—Passenger, Commuter and Freight Trains

• Section 610: There is no SEISNOSE.

• General: Since the rule prescribes minimum requirements for railroads to equip the rear car of passenger, commuter and freight trains with highly visible markers, it provides safety and security not only for railroad employees but also for the general public. No changes are needed. FRA's plain language review of this rule indicates no need for substantial revision.

49 CFR part 222—Use of Locomotive Horns at Public Highway-Rail Grade Crossings

• Section 610: There is no SEISNOSE.

• General: The purpose of this rule is to require locomotive horn use at public highway-rail grade crossings except in quiet zones established and maintained in accordance with this rule. FRA's plain language review of this rule indicates no need for substantial revision.

49 CFR part 223—Safety Glazing Standards—Locomotives, Passenger Cars and Cabooses

• Section 610: There is no SEISNOSE.

• General: The rule provides minimum standards for glazing materials and is necessary to protect railroad employees and railroad passengers from injury because of objects striking the windows of locomotives, passenger cars and cabooses. Proposed amendments will reduce the regulatory burden on the railroad industry by eliminating the need to continue to use the waiver process for relief, while providing the railroad industry with regulatory certainty as to the applicability of part 223 to certain older equipment. FRA's plain language review of this rule indicates no need for substantial revision.

49 CFR part 224—Reflectorization of Rail Freight Rolling Stock

• Section 610: There is no SEISNOSE.

• General: The regulation requires freight rolling stock owners and railroads to have all freight rolling properly equipped with retroreflective material within 10 years of the effective date of the final rule for the purpose of enhancing its detectability at highway-rail crossings. Freight rolling stock owners and railroads are also required to periodically inspect and maintain that material. The rule also established a 10-year implementation schedule to help facilitate the initial application of retroreflective material to non-reflectorized freight rolling stock. Further, the regulation prescribes standards for the application, inspection, and maintenance of retroreflective material on rail freight rolling. FRA's plain language review of this rule indicates no need for revision.

49 CFR part 225—Railroad Accidents/Incidents: Reports Classification and Investigations

• Section 610: There is no SEISNOSE. Section 225.3 specifically states that certain Internal Control Plan and recordkeeping requirements are not applicable to railroads below a certain size. FRA also makes available a free software package to all railroads that would allow for FRA recordkeeping and reporting.

• General: Since FRA needs accurate information on the hazards and risks that exist on the nation's railroads to effectively carry out its regulatory responsibilities, to determine comparative trends of railroad safety, and to develop hazard elimination and risk reduction programs that focus on preventing railroad injuries and accidents, the requirements set forth in part 225 will improve railroad safety for industry employees and the general public.

Year 5 (Fall 2022) List of Rules(s) That Will Be Analyzed During This Year

49 CFR part 227—Occupational Noise Exposure

49 CFR part 228—Passenger Train Employee Hours of Service; Recordkeeping and Reporting; Sleeping Quarters

49 CFR part 229—Railroad Locomotive Safety Standards

49 CFR part 230—Steam Locomotive Inspection and Maintenance Standards

49 CFR part 231—Railroad Safety Appliance Standards

Federal Transit Administration

Section 610 and Other Reviews

The Regulatory Flexibility Act of 1980 (RFA), as amended (sections 601 through 612 of title 5, United States Code), requires Federal regulatory agencies to analyze all proposed and final rules to determine their economic impact on small entities, which include small businesses, organizations, and governmental jurisdictions. Section 610 requires government agencies to periodically review all regulations that will have a significant economic impact on a substantial number of small entities (SEISNOSE).

In complying with this section, the Federal Transit Administration (FTA) has elected to use the two-step, two-year process used by most Department of Transportation (DOT) modes. As such, FTA has divided its rules into 10 groups as displayed in the table below. During the analysis year, the listed rules will be analyzed to identify those with a SEISNOSE. During the review year, each rule identified in the analysis year as having a SEISNOSE will be reviewed in accordance with section 610(b) to determine if it should be continued without change or changed to minimize the impact on small entities.

Year | Regulations to be reviewed | Analysis year | Review year
1 | 49 CFR parts 604, 605, and 624 | 2018 | 2019
2 | 49 CFR parts 609 and 640 | 2019 | 2020
3 | 49 CFR part 633 | 2020 | 2021
4 | 49 CFR part 611 | 2021 | 2022
5 | 49 CFR part 655 | 2022 | 2023
6 | 49 CFR parts 602 and 614 | 2023 | 2024
7 | 49 CFR parts 661 and 663 | 2024 | 2025
8 | 49 CFR parts 625, 630, and 665 | 2025 | 2026
9 | 49 CFR parts 613, 622, 670 and 674 | 2026 | 2027
10 | 49 CFR parts 650, 672 and 673 | 2027 | 2028

Year 4 (2021) List of Rules Analyzed and Summary of Results

49 CFR part 633—Project Management Oversight

• Section 610: FTA conducted a Section 610 review of 49 CFR part 611 and determined that it would not result in a SEISNOSE within the meaning of the RFA. The regulation implements the statutorily required process that applicants must follow to be considered eligible for fixed guideway capital investment grants.

• General: No changes are needed. FTA is currently updating its capital investment grant policy guidance pursuant to 49 U.S.C. 5309(g)(5).

Year 5 (2022) List of Rules To Be Analyzed This Year

49 CFR part 655—Prevention of Alcohol Misuse and Prohibited Drug Use in Transit Operations

Maritime Administration

Section 610 and Other Reviews

Year | Regulations to be reviewed | Analysis year | Review year
1 | 46 CFR parts 201 through 205, 46 CFR parts 315 through 340, 46 CFR part 345 through 347, and 46 CFR parts 381 and 382 | 2018 | 2019
2 | 46 CFR parts 221 through 232 | 2019 | 2020
3 | 46 CFR parts 249 through 296 | 2020 | 2021
4 | 46 CFR parts 221, 298, 308, and 309 | 2021 | 2022
5 | 46 CFR parts 307 through 309 | 2022 | 2023
6 | 46 CFR part 310 | 2023 | 2024
7 | 46 CFR parts 315 through 340 | 2024 | 2025
8 | 46 CFR parts 345 through 381 | 2025 | 2026
9 | 46 CFR parts 382 through 389 | 2026 | 2027
10 | 46 CFR parts 390 through 393 | 2027 | 2028

Year 1 (2018) List of Rules With Ongoing Analysis

46 CFR part 201—Rules of Practice and Procedure

46 CFR part 202—Procedures relating to review by Secretary of Transportation of actions by Maritime Subsidy Board

46 CFR part 203—Procedures relating to conduct of certain hearings under the Merchant Marine Act, 1936, as amended

46 CFR part 205—Audit Appeals; Policy and Procedure

46 CFR part 315—Agency Agreements and Appointment of Agents

46 CFR part 317—Bonding of Ship's Personnel

46 CFR part 324—Procedural Rules for Financial Transactions Under Agency Agreements

46 CFR part 325—Procedure to Be Followed by General Agents in Preparation of Invoices and Payment of Compensation Pursuant to Provisions of NSA Order No. 47

46 CFR part 326—Marine Protection and Indemnity Insurance Under Agreements with Agents

46 CFR part 327—Seamen's Claims; Administrative Action and Litigation

46 CFR part 328—Slop Chests

46 CFR part 329—Voyage Data

46 CFR part 330—Launch Services

46 CFR part 332—Repatriation of Seamen

46 CFR part 335—Authority and Responsibility of General Agents to Undertake Emergency Repairs in Foreign Ports

46 CFR part 336—Authority and Responsibility of General Agents to Undertake in Continental United States Ports Voyage Repairs and Service Equipment of Vessels Operated for the Account of The National Shipping Authority Under General Agency Agreement

46 CFR part 337—General Agent's Responsibility in Connection with Foreign Repair Custom's Entries

46 CFR part 338—Procedure for Accomplishment of Vessel Repairs Under National Shipping Authority Master Lump Sum Repair Contract—NSA-Lumpsumrep

46 CFR part 339—Procedure for Accomplishment of Ship Repairs Under National Shipping Authority Individual Contract for Minor Repairs—NSA-Workmanship

46 CFR part 340—Priority Use and Allocation of Shipping Services, Containers and Chassis, and Port Facilities and Services for National Security and National Defense Related Operations

46 CFR part 345—Restrictions Upon the Transfer or Change in Use or In Terms Governing Utilization of Port Facilities

46 CFR part 346—Federal Port Controllers

46 CFR part 347—Operating Contract

46 CFR part 381—Cargo Preference—U.S.-Flag Vessels

46 CFR part 382—Determination of Fair and Reasonable Rates for the Carriage of Bulk and Packaged Preference Cargoes on U.S.-Flag Commercial Vessels

Year 1 (2018) List of Rules Analyzed and a Summary of Results

46 CFR part 204—Claims against the Maritime Administration under the Federal Tort Claims Act

• Section 610: There is no SEIOSNOSE.

• General: The purpose of this rule is to prescribe the requirements and procedures for administrative claims against the United States involving the Maritime Administration under the Federal Tort Claims Act. The agency has determined that the rule is cost-effective and imposes the least possible burden on small entities. MARAD's plain language review of this rule indicates no need of substantial revision.

Year 2 (2019) List of Rules Analyzed and a Summary of Results

46 CFR part 221—Regulated Transactions Involving Documented Vessels and Other Maritime Interests

• Section 610: There is no SEIOSNOSE.

• General: The purpose of this rule is to govern practice and procedure in regulating interest in or control of Documented Vessels owned by Citizens of the United States to Noncitizens and transactions involving certain maritime interests in time of war or national emergency. The agency has determined that the rule is cost-effective and imposes the least possible burden on small entities. MARAD's plain language review of this rule indicates no need of substantial revision.

46 CFR 232—Uniform Financial Reporting Requirements

• Section 610: There is no SEIOSNOSE.

• General: The purpose of this rule is to govern practice and procedure to all participants in financial assistance programs administered by the Maritime Administration. The agency has determined that the rule is cost-effective and imposes the least possible burden on small entities. MARAD's plain language review of this rule indicates no need of substantial revision.

Year 3 (2020) List of Rules That Will Be Analyzed During the Year

46 CFR part 249—Approval of Underwriters for Marine Hull Insurance

46 CFR part 272—Requirements and Procedures for Conducting Condition Surveys and Administering Maintenance and Repair Subsidy

46 CFR part 277—Domestic and Foreign Trade; Interpretations

46 CFR part 287—Establishment of Construction Reserve Funds

46 CFR part 289—Insurance of Construction-Differential Subsidy Vessels, Operating-Differential Subsidy Vessels and of Vessels Sold or Adjusted Under the Merchant Ship Sales Act of 1946

46 CFR part 295—Maritime Security Program

46 CFR part 296—Maritime Security Program

Pipeline and Hazardous Materials Safety Administration (PHMSA)

Section 610 and Other Reviews

Year | Regulations to be reviewed | Analysis year | Review year
1 | 49 CFR part 178 | 2018 | 2019
2 | 49 CFR parts 178 through 180 | 2019 | 2020
3 | 49 CFR parts 172 and 175 | 2020 | 2021
4 | 49 CFR part 171, sections 171.15 and 171.16 | 2021 | 2022
5 | 49 CFR parts 106, 107, 171, 190, and 195 | 2022 | 2023
6 | 49 CFR parts 174, 177, and 199 | 2023 | 2024
7 | 49 CFR parts 176, 191 and 192 | 2024 | 2025
8 | 49 CFR parts 172 and 178 | 2025 | 2026
9 | 49 CFR parts 172, 173, 174, 176, 177, and 193 | 2026 | 2027
10 | 49 CFR parts 173 and 194 | 2027 | 2028

Year 4 (Fall 2022) List of Rules Analyzed and a Summary of Results

49 CFR part 171—General Information, Regulations, Definitions

49 CFR 171.15—Immediate notice of certain hazardous materials incidents

49 CFR 171.16—Detailed hazardous materials incident reports

• Section 610: PHMSA conducted a review of this part and these sections and found no SEISNOSE.

• General: PHMSA's plain language review of these areas indicate no need for substantial revision. These regulations provide necessary/clear guidance to stakeholders on the applicability of the hazardous materials regulations, use of international transport standards, and PHMSA's incident reporting requirements—among other provisions. The regulations are written consistent with plain language guidelines, are cost effective, and impose the least economic burden to the industry.

For an example, the “Hazardous Materials: Harmonization With International Standards” (2137-AF46) rulemaking action is part of PHMSA's ongoing biennial process to harmonize the Hazardous Materials Regulations (HMR) with international regulations and standards. Federal law and policy strongly favor the harmonization of domestic and international standards for hazardous materials transportation. The Federal hazardous materials transportation law (Federal hazmat law; 49 U.S.C. 5101 et seq.) directs PHMSA to participate in relevant international standard-setting bodies and promotes consistency of the HMR with international transport standards to the extent practicable. Federal hazardous materials law permits PHMSA to depart from international standards where appropriate, including to promote safety or other overriding public interests. However, Federal hazardous materials law otherwise encourages domestic and international harmonization (see 49 U.S.C. 5120). Harmonization facilitates international trade by minimizing the costs and other burdens of complying with multiple or inconsistent safety requirements for transportation of hazardous materials. Safety is enhanced by creating a uniform framework for compliance, and as the volume of hazardous materials transported in international commerce continues to grow, harmonization becomes increasingly important. The impact that the 2137-AF46 rulemaking will have on small entities is not expected to be significant. The rulemaking clarified provisions based on PHMSA's initiatives and correspondence with the regulated community and domestic and international stakeholders, which helps promote safety through increased regulatory compliance. The changes were generally intended to provide relief and, as a result, positive economic benefits to shippers, carriers, and packaging manufacturers and testers, including small entities. This rulemaking is expected to lead to both economic and safety benefits. The amendments are expected to result in net benefits for shippers engaged in domestic and international commerce, including trans-border shipments within North America. Additionally, the effective changes of this rulemaking will relieve U.S. companies, including small entities competing in foreign markets, from the burden of complying with a dual system of regulations. This rulemaking is an example of PHMSA's review of rulemakings which helps ensure that the HMR do not have a significant economic impact on a substantial number of small entities.

Year 5 (Fall 2023) List of Rules That Will Be Analyzed During the Next Year

49 CFR parts 106, 107, 171, 190, and 195

Great Lakes Saint Lawrence Seaway Development Corporation

Section 610 and Other Reviews

Year | Regulations to be reviewed | Analysis year | Review year
1 | * 33 CFR parts 401 through 403 | 2018 | 2019
* The review for these regulations is recurring each year of the 10-year review cycle (currently 2018 through 2027).

Year 1 (Fall 2018) List of Rules That Will Be Analyzed During the Next Year

33 CFR part 401—Seaway Regulations and Rules

33 CFR part 402—Tariff of Tolls

33 CFR part 403—Rules of Procedure of the Joint Tolls Review Board

BILLING CODE 4910-81-P

Office of the Secretary—Proposed Rule Stage
Sequence No. | Title | Regulation Identifier No.
374 | ++A Refunding Airline Tickets and Fees for Delayed Checked Bags and Ancillary Services That are not Provided | 2105-AF04
+ DOT-designated significant regulation.

Office of the Secretary—Long-Term Actions
Sequence No. | Title | Regulation Identifier No.
375 | +Air Transportation Consumer Protection Requirements for Ticket Agents (Section 610 Review) | 2105-AE57
+ DOT-designated significant regulation.

Office of the Secretary—Completed Actions
Sequence No. | Title | Regulation Identifier No.
376 | Refunding Fees for Delayed Checked Bags and Unused Ancillary Services | 2105-AE53

Federal Aviation Administration—Final Rule Stage
Sequence No. | Title | Regulation Identifier No.
377 | +Airport Safety Management System | 2120-AJ38
+ DOT-designated significant regulation.

Federal Aviation Administration—Long-Term Actions
Sequence No. | Title | Regulation Identifier No.
378 | +Regulation Of Flight Operations Conducted By Alaska Guide Pilots | 2120-AJ78
379 | +Drug and Alcohol Testing of Certain Maintenance Provider Employees Located Outside of the United States | 2120-AK09
380 | +Applying the Flight, Duty, and Rest Requirements to Ferry Flights That Follow Commuter or On-Demand Operations (FAA Reauthorization) | 2120-AK26
381 | +Aircraft Registration and Airmen Certification Fees | 2120-AK37
382 | +Helicopter Air Ambulance Pilot Training and Operational Requirements (HAA II) (FAA Reauthorization) | 2120-AK57
383 | Requirements to File Notice of Construction of Meteorological Evaluation Towers and Other Renewable Energy Projects (Section 610 Review) (Section 610 Review) | 2120-AK77
384 | +Registration and Marking Requirements for Small Unmanned Aircraft | 2120-AK82
+ DOT-designated significant regulation.

Federal Motor Carrier Safety Administration—Proposed Rule Stage
Sequence No. | Title | Regulation Identifier No.
385 | Self-Insurance Program Cost Recovery (Section 610 Review) | 2126-AC58
386 | Parts and Accessories Necessary for Safe Operation; Electronic Stability Control (Section 610 Review) | 2126-AC59

Federal Motor Carrier Safety Administration—Long-Term Actions
Sequence No. | Title | Regulation Identifier No.
387 | +Safety Monitoring System and Compliance Initiative for Mexico-Domiciled Motor Carriers Operating in the United States | 2126-AA35
+ DOT-designated significant regulation.

Federal Railroad Administration—Proposed Rule Stage
Sequence No. | Title | Regulation Identifier No.
388 | +Train Crew Staffing (Section 610 Review) (Reg Plan Seq No. 153) | 2130-AC88
+ DOT-designated significant regulation. References in boldface appear in The Regulatory Plan in part II of this issue of the Federal Register.

Federal Railroad Administration—Final Rule Stage
Sequence No. | Title | Regulation Identifier No.
389 | Risk Reduction Program (Section 610 Review) | 2130-AC89

Saint Lawrence Seaway Development Corporation—Final Rule Stage
Sequence No. | Title | Regulation Identifier No.
390 | Seaway Regulations and Rules: Periodic Update, Various Categories (Rulemaking Resulting From a Section 610 Review) | 2135-AA51
391 | Tariff of Tolls (Rulemaking Resulting From a Section 610 Review) | 2135-AA52
392 | Seaway Regulations and Rules: Periodic Update, Various Categories (Rulemaking Resulting From a Section 610 Review) | 2135-AA53
393 | Tariff of Tolls (Rulemaking Resulting From a Section 610 Review) | 2135-AA54

Pipeline and Hazardous Materials Safety Administration—Proposed Rule Stage
Sequence No. | Title | Regulation Identifier No.
394 | +Pipeline Safety: Gas Pipeline Leak Detection and Repair | 2137-AF51
395 | +Pipeline Safety: Pipeline Operational Status | 2137-AF52
396 | +Pipeline Safety: Safety of Gas Distribution Pipelines and Other Pipeline Safety Initiatives | 2137-AF53
+ DOT-designated significant regulation.

Pipeline and Hazardous Materials Safety Administration—Final Rule Stage
Sequence No. | Title | Regulation Identifier No.
397 | +Hazardous Materials: Enhanced Safety Provisions for Lithium Batteries Transported by Aircraft (FAA Reauthorization Act of 2018) | 2137-AF20
+ DOT-designated significant regulation.

Pipeline and Hazardous Materials Safety Administration—Completed Actions
Sequence No. | Title | Regulation Identifier No.
398 | +Pipeline Safety: Amendments to Parts 192 and 195 to require Valve installation and Minimum Rupture Detection Standards | 2137-AF06
+ DOT-designated significant regulation.

DEPARTMENT OF TRANSPORTATION (DOT)

Office of the Secretary (OST)

Proposed Rule Stage

374. ++A Refunding Airline Tickets and Fees for Delayed Checked Bags and Ancillary Services That Are Not Provided [2105-AF04]

Legal Authority: 49 U.S.C. 41712; 49 U.S.C. 40101, 49 U.S.C. 41702

Abstract: The Department of Transportation has consistently interpreted 49 U.S.C. 41712, which prohibits U.S. air carriers, foreign air carriers, and ticket agents from engaging in unfair practices in the sale of air transportation, to require carriers and ticket agents to provide requested refunds to passengers when a carrier cancels or significantly changes a flight to, from, or within the United States. This rulemaking would clarify that, under the Department's rule requiring airlines to provide prompt refunds when ticket refunds are due and its rule requiring ticket agents to make refunds promptly when service cannot be performed as contracted, carriers and ticket agents must provide prompt ticket refunds to passengers when a carrier cancels or makes a significant change to a flight. This rulemaking would define cancellation and significant change, including addressing whether new itineraries involving delays of a certain length or additional stops constitute a significant change requiring a refund. This rulemaking would also address protections for consumers who are unable to travel due to government restrictions. In addition, the rulemaking under RIN 2105-AE53 has been merged into this rulemaking. As such, this rulemaking would also require airlines to refund checked baggage fees when they fail to deliver the bags in a timely manner as provided by the FAA Extension, Safety and Security Act of 2016, and require airlines to promptly provide a refund to a passenger of any ancillary fees paid for services that the passenger did not receive as provided by the FAA Reauthorization Act of 2018.

Timetable:

Action | Date | FR Cite
NPRM | 08/22/22 | 87 FR 51550
NPRM Comment Period End | 12/00/22 |
Final Rule | 11/00/23 |

Regulatory Flexibility Analysis Required: Yes.

Agency Contact: Blane A. Workie, Assistant General Counsel, Department of Transportation, Office of the Secretary, 1200 New Jersey Avenue SE, Washington, DC 20590, Phone: 202 366-9342, Fax: 202 366-7153, Email: blane.workie@ost.dot.gov.

RIN: 2105-AF04

DEPARTMENT OF TRANSPORTATION (DOT)

Office of the Secretary (OST)

Long-Term Actions

375. +Air Transportation Consumer Protection Requirements for Ticket Agents (Section 610 Review) [2105-AE57]

Legal Authority: 49 U.S.C. 41712; FAA Reauthorization Act of 2018, Sec. 427

Abstract: This rulemaking would address a number of proposals to enhance protections for air travelers and to improve the air travel environment. Specifically, this rulemaking would enhance airline passenger protections by addressing whether to codify in regulation a definition of the term “ticket agent.” The rulemaking would also consider whether to require large travel agents to adopt minimum customer service standards and prohibit the unfair and deceptive practice of post-purchase price increases. These issues, previously part of a rulemaking known as Airline Pricing Transparency and Other Consumer Protection Issues, (2105-AE11) have been separated into this proceeding.

Timetable: Next Action Undetermined.

Regulatory Flexibility Analysis Required: No.

Agency Contact: Blane A. Workie, Assistant General Counsel, Department of Transportation, Office of the Secretary, 1200 New Jersey Avenue SE, Washington, DC 20590, Phone: 202 366-9342, Fax: 202 366-7153, Email: blane.workie@ost.dot.gov.

RIN: 2105-AE57

DEPARTMENT OF TRANSPORTATION (DOT)

Office of the Secretary (OST)

Completed Actions

376. Refunding Fees for Delayed Checked Bags and Unused Ancillary Services [2105-AE53]

Legal Authority: Pub. L. 115-254; Pub. L. 114-190

Abstract: The Department of Transportation (DOT or Department) would require airlines to refund checked baggage fees when they fail to deliver the bags in a timely manner as provided by the FAA Extension, Safety and Security Act of 2016. The Department would also require airlines to promptly provide a refund to a passenger of any ancillary fees paid for services that the passenger did not receive as provided by the FAA Reauthorization Act of 2018. This rulemaking has been merged with the rulemaking under RIN 2105-AF04. As such, a combined final rule will be issued under RIN 2105-AF04 to address the matters proposed in this rulemaking.

Timetable:

Action | Date | FR Cite
ANPRM | 10/31/16 | 81 FR 75347
ANPRM Comment Period End | 11/30/16 |
NPRM | 07/21/21 | 86 FR 38420
NPRM Comment Period End | 09/20/21 |
Terminated | 10/26/22 |

Regulatory Flexibility Analysis Required: Yes.

Agency Contact: Blane A. Workie, Assistant General Counsel, Department of Transportation, Office of the Secretary, 1200 New Jersey Avenue SE, Washington, DC 20590, Phone: 202 366-9342, Fax: 202 366-7153, Email: blane.workie@ost.dot.gov.

RIN: 2105-AE53

DEPARTMENT OF TRANSPORTATION (DOT)

Federal Aviation Administration (FAA)

Final Rule Stage

377. +Airport Safety Management System [2120-AJ38]

Legal Authority: 49 U.S.C. 44706; 49 U.S.C. 106(g); 49 U.S.C. 40113; 49 U.S.C. 44701 to 44706; 49 U.S.C. 44709; 49 U.S.C. 44719

Abstract: This rulemaking would require certain airport certificate holders to develop, implement, maintain, and adhere to a safety management system (SMS) for its aviation related activities. An SMS is a formalized approach to managing safety by developing an organization-wide safety policy, developing formal methods of identifying hazards, analyzing and mitigating risk, developing methods for ensuring continuous safety improvement, and creating organization-wide safety promotion strategies.

Timetable:

Action | Date | FR Cite
NPRM | 10/07/10 | 75 FR 62008
NPRM Comment Period Extended | 12/10/10 | 75 FR 76928
NPRM Comment Period End | 01/05/11 |
End of Extended Comment Period | 03/07/11 |
Second Extension of Comment Period | 03/07/11 | 76 FR 12300
End of Second Extended Comment Period | 07/05/11 |
Second NPRM | 07/14/16 | 81 FR 45871
Second NPRM Comment Period End | 09/12/16 |
Final Rule | 12/00/22 |

Regulatory Flexibility Analysis Required: Yes.

Agency Contact: James Schroeder, Office of Airport Safety and Standards, Department of Transportation, Federal Aviation Administration, 800 Independence Avenue SW, Washington, DC 20591, Phone: 202 267-4974, Email: james.schroeder@faa.gov.

RIN: 2120-AJ38

DEPARTMENT OF TRANSPORTATION (DOT)

Federal Aviation Administration (FAA)

Long-Term Actions

378. +Regulation of Flight Operations Conducted by Alaska Guide Pilots [2120-AJ78]

Legal Authority: 49 U.S.C. 106(g); 49 U.S.C. 1153; 49 U.S.C. 1155; 49 U.S.C. 40101 to 40103; 49 U.S.C. 40113; 49 U.S.C. 40120; 49 U.S.C. 44101; 49 U.S.C. 44105 to 44016; 49 U.S.C. 44111; 49 U.S.C. 44701 to 44717; 49 U.S.C. 44722; 49 U.S.C. 44901; 49 U.S.C. 44903 to 44904; 49 U.S.C. 44906; 49 U.S.C. 44912; 49 U.S.C. 44914; 49 U.S.C. 44936; 49 U.S.C. 44938; 49 U.S.C. 46103; 49 U.S.C. 46105; 49 U.S.C. 46306; 49 U.S.C. 46315 to 46316; 49 U.S.C. 46504; 49 U.S.C. 46506 to 46507; 49 U.S.C. 47122; 49 U.S.C. 47508; 49 U.S.C. 47528 to 47531; Articles 12 and 29 of 61 Statue 1180; Pub. L. 106-181, Sec. 732

Abstract: The rulemaking would establish regulations concerning Alaska guide pilot operations. The rulemaking would implement Congressional legislation and establish additional safety requirements for the conduct of these operations. The intended effect of this rulemaking is to enhance the level of safety for persons and property transported in Alaska guide pilot operations. In addition, the rulemaking would add a general provision applicable to pilots operating under the general operating and flight rules concerning falsification, reproduction, and alteration of applications, logbooks, reports, or records. This rulemaking is a statutory mandate under section 732 of the Wendell H. Ford Aviation Investment and Reform Act for the 21st Century, (Pub. L. 106-181).

Timetable: Next Action Undetermined.

Regulatory Flexibility Analysis Required: Yes.

Agency Contact: Jeff Smith, Department of Transportation, Federal Aviation Administration, 800 Independence Avenue SW, Washington, DC 20785, Phone: 202 365-3617, Email: jeffrey.smith@faa.gov.

RIN: 2120-AJ78

379. +Drug and Alcohol Testing of Certain Maintenance Provider Employees Located Outside of the United States [2120-AK09]

Legal Authority: 14 CFR; 49 U.S.C. 106(g); 49 U.S.C. 40113; 49 U.S.C. 44701; 49 U.S.C. 44702; 49 U.S.C. 44707; 49 U.S.C. 44709; 49 U.S.C. 44717

Abstract: This rulemaking would require controlled substance testing of some employees working in repair stations located outside the United States. The intended effect is to increase participation by companies outside of the United States in testing of employees who perform safety critical functions and testing standards similar to those used in the repair stations located in the United States. This action is necessary to increase the level of safety of the flying public. This rulemaking is a statutory mandate under section 308(d) of the FAA Modernization and Reform Act of 2012 (Pub. L. 112-95).

Timetable:

Action | Date | FR Cite
ANPRM | 03/17/14 | 79 FR 14621
Comment Period Extended | 05/01/14 | 79 FR 24631
ANPRM Comment Period End | 05/16/14 |
Comment Period End | 07/17/14 |
Next Action Undetermined |  |

Regulatory Flexibility Analysis Required: Yes.

Agency Contact: Julia Brady, Program Analyst, Program Policy Branch, Department of Transportation, Federal Aviation Administration, 800 Independence Avenue SW, Washington, DC 20591, Phone: 202 267-8083, Email: julia.brady@faa.gov.

RIN: 2120-AK09

380. +Applying the Flight, Duty, and Rest Requirements to Ferry Flights That Follow Commuter or On-Demand Operations (FAA Reauthorization) [2120-AK26]

Legal Authority: 49 U.S.C. 106(f); 49 U.S.C. 106(g); 49 U.S.C. 1153; 49 U.S.C. 40101; 49 U.S.C. 40102; 49 U.S.C. 40103; 49 U.S.C. 40113; 49 U.S.C. 41706; 49 U.S.C. 44105; 49 U.S.C. 44106; 49 U.S.C. 44111; 49 U.S.C. 44701 to 44717; 49 U.S.C. 44722; 49 U.S.C. 44901; 49 U.S.C. 44903; 49 U.S.C. 44904; 49 U.S.C. 44906; 49 U.S.C. 44912; 49 U.S.C. 44914; 49 U.S.C. 44936; 49 U.S.C. 44938; 49 U.S.C. 45101 to 45105; 49 U.S.C. 46103

Abstract: This rulemaking would require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable: Next Action Undetermined.

Regulatory Flexibility Analysis Required: Yes.

Agency Contact: Chester Piolunek, Department of Transportation, Federal Aviation Administration, 800 Independence Avenue SW, Washington, DC 20591, Phone: 202 267-3711, Email: chester.piolunek@faa.gov.

RIN: 2120-AK26

381. +Aircraft Registration and Airmen Certification Fees [2120-AK37]

Legal Authority: 31 U.S.C. 9701; 4 U.S.C. 1830; 49 U.S.C. 106(f); 49 U.S.C. 106(g); 49 U.S.C. 106(l)(6); 49 U.S.C. 40104; 49 U.S.C. 40105; 49 U.S.C. 40109; 49 U.S.C. 40113; 49 U.S.C. 40114; 49 U.S.C. 44101 to 44108; 49 U.S.C. 44110 to 44113; 49 U.S.C. 44701 to 44704; 49 U.S.C. 44707; 49 U.S.C. 44709 to 44711; 49 U.S.C. 44713; 49 U.S.C. 45102; 49 U.S.C. 45103; 49 U.S.C. 45301; 49 U.S.C. 45302; 49 U.S.C. 45305; 49 U.S.C. 46104; 49 U.S.C. 46301; Pub. L. 108-297, 118 Stat.

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
NPRM | To Be Determined

Regulatory Flexibility Analysis Required: Yes.

Agency Contact: Isra Raza, Department of Transportation, Federal Aviation Administration, 800 Independence Avenue SW, Washington, DC 20591, Phone: 202 267-8994, Email: isra.raza@faa.gov.

RIN: 2120-AK37

382. +Helicopter Air Ambulance Pilot Training and Operational Requirements (HAA II) (FAA Reauthorization) [2120-AK57]

Legal Authority: 49 U.S.C. 106(f); 49 U.S.C. 106(g); 49 U.S.C. 40113; 49 U.S.C. 41706; 49 U.S.C. 44701; 49 U.S.C. 44702; 49 U.S.C. 44705; 49 U.S.C. 44709; 49 U.S.C. 44711 to 44713; 49 U.S.C. 44715 to 44717; 49 U.S.C. 44722; 49 U.S.C. 44730; 49 U.S.C. 45101 to 45105

Abstract: This rulemaking would develop training requirements for crew resource management, flight risk evaluation, and operational control of the pilot in command, as well as to develop standards for the use of flight simulation training devices and line-oriented flight training. Additionally, it would establish requirements for the use of safety equipment for flight crewmembers and flight nurses. These changes will aide in the increase in aviation safety and increase survivability in the event of an accident. Without these changes, the Helicopter Air Ambulance industry may continue to see the unacceptable high rate of aircraft accidents. This rulemaking is a statutory mandate under section 306(e) of the FAA Modernization and Reform Act of 2012 (Pub. L. 112-95).

Timetable: Next Action Undetermined.

Regulatory Flexibility Analysis Required: Yes.

Agency Contact: Chris Holliday, Department of Transportation, Federal Aviation Administration, 800 Independence Ave. SW, Washington, DC 20591, Phone: 202-267-4552, Email: chris.holliday@faa.gov.

RIN: 2120-AK57

383. Requirements To File Notice of Construction of Meteorological Evaluation Towers and Other Renewable Energy Projects (Section 610 Review) (Section 610 Review) [2120-AK77]

Legal Authority: 49 U.S.C. 40103

Abstract: This rulemaking would add specific requirements for proponents who wish to construct meteorological evaluation towers at a height of 50 feet above ground level (AGL) up to 200 feet AGL to file notice of construction with the FAA. This rule also requires sponsors of wind turbines to provide certain specific data when filing notice of construction with the FAA. This rulemaking is a statutory mandate under section 2110 of the FAA Extension, Safety, and Security Act of 2016 (Pub. L. 114-190).

Timetable: Next Action Undetermined.

Regulatory Flexibility Analysis Required: No.

Agency Contact: Brian Konie, Air Traffic Service, Department of Transportation, Federal Aviation Administration, 800 Independence Avenue SW, Washington, DC 20591, Phone: 202 267-8783, Email: brian.konie@faa.gov.

RIN: 2120-AK77

384. +Registration and Marking Requirements for Small Unmanned Aircraft [2120-AK82]

Legal Authority: 49 U.S.C. 106(f), 49 U.S.C. 41703, 44101-44106, 44110-44113, and 44701

Abstract: This rulemaking would provide an alternative, streamlined and simple, web-based aircraft registration process for the registration of small, unmanned aircraft, including small unmanned aircraft operated exclusively for limited recreational operations, to facilitate compliance with the statutory requirement that all aircraft register prior to operation. It would also provide a simpler method for marking small, unmanned aircraft that is more appropriate for these aircraft. This action responds to public comments received regarding the proposed registration process in the Operation and Certification of Small Unmanned Aircraft notice of proposed rulemaking, the request for information regarding unmanned aircraft system registration, and the recommendations from the Unmanned Aircraft System Registration Task Force.

Timetable:

Action | Date | FR Cite
Interim Final Rule | 12/16/15 | 80 FR 78593
Interim Final Rule Effective | 12/21/15 |
OMB approval of information collection | 12/21/15 | 80 FR 79255
Interim Final Rule Comment Period End | 01/15/16 |
Final Rule | 02/00/24 |

Regulatory Flexibility Analysis Required: Yes.

Agency Contact: Bonnie Lefko, Department of Transportation, Federal Aviation Administration, 6500 S MacArthur Boulevard, Registry Building 26, Room 118, Oklahoma City, OK 73169, Phone: 866 762-9434, Email: bonnie.lefko@faa.gov.

RIN: 2120-AK82

BILLING CODE 4910-13-P

DEPARTMENT OF TRANSPORTATION (DOT)

Federal Motor Carrier Safety Administration (FMCSA)

Proposed Rule Stage

385. Self-Insurance Program Cost Recovery (Section 610 Review) [2126-AC58]

Legal Authority: 31 U.S.C. 9701 and 49 U.S.C. 13906(d); 49 U.S.C. 13908(d)

Abstract: FMCSA will propose to amend fees collected for the processing of new self-insurance applications and add new fees for ongoing monitoring of carrier compliance with the self-insurance program requirements. Application fees will be directed to FMCSA's Licensing and Insurance (L&I) Account while monitoring fees must be sent to the Treasury. This rulemaking will amend 49 CFR 360.3T/360.3 to ensure that the limited number of primarily large motor carriers that benefit from the program bear a proportionate cost of participating in the program. FMCSA may also need to amend 49 CFR 360.5T/360.5 to reflect any specific updates to the user fee methodology that are required by this rulemaking.

Timetable:

Action | Date | FR Cite
NPRM | 04/00/23 |

Regulatory Flexibility Analysis Required: No.

Agency Contact: Kenneth Riddle, Office Director, Department of Transportation, Federal Motor Carrier Safety Administration, 1200 New Jersey Avenue SE, W65-308, Washington, DC 20590, Phone: 202 366-9616, Email: kenneth.riddle@dot.gov.

RIN: 2126-AC58

386. • Parts and Accessories Necessary for Safe Operation; Electronic Stability Control (Section 610 Review) [2126-AC59]

Legal Authority: Not Yet Determined

Abstract: Federal Motor Carrier Safety Administration (FMCSA) would cross-reference the National Highway Traffic Safety Administration's (NHTSA) requirements for original equipment manufacturers to install electronic stability control (ESC) on new vehicles and require interstate motor carriers to maintain the systems on commercial motor vehicles (CMVs).

Timetable:

Action | Date | FR Cite
NPRM | 12/00/22 |

Regulatory Flexibility Analysis Required: Undetermined.

Agency Contact: Sarah Stella, Department of Transportation, Federal Motor Carrier Safety Administration, 1200 New Jersey Avenue SE, Washington, DC 20590, Phone: 202 366-0192, Email: sarah.stella@dot.gov.

RIN: 2126-AC59

DEPARTMENT OF TRANSPORTATION (DOT)

Federal Motor Carrier Safety Administration (FMCSA)

Long-Term Actions

387. +Safety Monitoring System and Compliance Initiative for Mexico-Domiciled Motor Carriers Operating in the United States [2126-AA35]

Legal Authority: Pub. L. 107-87, sec. 350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY-2002 DOT Appropriations Act. On January 16, 2003, the Ninth Circuit Court of Appeals remanded this rule, along with two other NAFTA-related rules, to the agency, requiring a full environmental impact statement and an analysis required by the Clean Air Act. On June 7, 2004, the Supreme Court reversed the Ninth Circuit and remanded the case, holding that FMCSA is not required to prepare the environmental documents. FMCSA originally planned to publish a final rule by November 28, 2003.

Timetable:

Action | Date | FR Cite
NPRM | 05/03/01 | 66 FR 22415
NPRM Comment Period End | 07/02/01 |
Interim Final Rule | 03/19/02 | 67 FR 12758
Interim Final Rule Comment Period End | 04/18/02 |
Interim Final Rule Effective | 05/03/02 |
Notice of Intent to Prepare an EIS | 08/26/03 | 68 FR 51322
EIS Public Scoping Meetings | 10/08/03 | 68 FR 58162
Next Action Undetermined |  |

Regulatory Flexibility Analysis Required: Yes.

Agency Contact: Sarah Stella, Department of Transportation, Federal Motor Carrier Safety Administration, 1200 New Jersey Avenue SE, Washington, DC 20590, Phone: 202 366-0192, Email: sarah.stella@dot.gov.

RIN: 2126-AA35

BILLING CODE 4910-EX-P

DEPARTMENT OF TRANSPORTATION (DOT)

Federal Railroad Administration (FRA)

Proposed Rule Stage

388. +Train Crew Staffing (Section 610 Review) [2130-AC88]

Regulatory Plan: This entry is Seq. No. 153 in part II of this issue of the Federal Register.

RIN: 2130-AC88

DEPARTMENT OF TRANSPORTATION (DOT)

Federal Railroad Administration (FRA)

Final Rule Stage

389. Risk Reduction Program (Section 610 Review) [2130-AC89]

Legal Authority: 49 U.S.C. 20103; 49 U.S.C. 20156

Abstract: FRA published the Risk Reduction Program (RRP) final rule on February 18, 2020, as required by 49 U.S.C. 20156. The RRP final rule established regulations at 49 CFR part 271, requiring Class I freight railroads and Class II and III freight railroads that demonstrate inadequate safety performance to develop and implement an RRP to improve the safety of their operations. This NPRM would address a procedural issue raised in an Association of American Railroads (AAR) petition to remove 49 CFR 271.3(c), which states that employees of railroad contractors that perform a “Significant portion of a railroad's operation” are considered the railroad's “directly affected employees” for purposes of the RRP rule.

Timetable:

Action | Date | FR Cite
NPRM | 09/08/22 | 87 FR 54938
NPRM Comment Period End | 11/07/22 |
Final Rule | 05/00/23 |

Regulatory Flexibility Analysis Required: No.

Agency Contact: Amanda Maizel, Attorney Adviser, Department of Transportation, Federal Railroad Administration, 1200 New Jersey Avenue SE, Washington, DC 20590, Phone: 202 493-8014, Email: amanda.maizel@dot.gov.

RIN: 2130-AC89

BILLING CODE 4910-06-P

DEPARTMENT OF TRANSPORTATION (DOT)

Saint Lawrence Seaway Development Corporation (SLSDC)

Final Rule Stage

390. Seaway Regulations and Rules: Periodic Update, Various Categories (Rulemaking Resulting From a Section 610 Review) [2135-AA51]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories.

Timetable:

Action | Date | FR Cite
Final Rule | 12/00/22 |

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA51

391. Tariff of Tolls (Rulemaking Resulting From a Section 610 Review) [2135-AA52]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Tariff of Tolls in their respective jurisdictions. The Tariff sets forth the level of tolls assessed on all commodities and vessels transiting the facilities operated by the GLS and the SLSMC.

Timetable:

Action | Date | FR Cite
Final Rule | 12/00/22 |

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA52

392. • Seaway Regulations and Rules: Periodic Update, Various Categories (Rulemaking Resulting From a Section 610 Review) [2135-AA53]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories.

Timetable:

Action | Date | FR Cite
Final Rule | 12/00/22 |

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA53

393. • Tariff of Tolls (Rulemaking Resulting From a Section 610 Review) [2135-AA54]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Tariff of Tolls in their respective jurisdictions. The Tariff sets forth the level of tolls assessed on all commodities and vessels transiting the facilities operated by the GLS and the SLSMC.

Timetable:

Action | Date | FR Cite
Final Rule | 12/00/22 |

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA54

BILLING CODE 4910-61-P

DEPARTMENT OF TRANSPORTATION (DOT)

Pipeline and Hazardous Materials Safety Administration (PHMSA)

Proposed Rule Stage

394. +Pipeline Safety: Gas Pipeline Leak Detection and Repair [2137-AF51]

Legal Authority: 49 U.S.C. 60101 et seq.

Abstract: This rulemaking would amend the pipeline safety regulations to enhance requirements for detecting and repairing leaks on new and existing natural gas distribution, gas transmission, and gas gathering pipelines. The proposed rule is necessary to respond to a mandate from section 113 of the Protecting our Infrastructure of Pipelines and Enhancing Safety Act of 2020.

Timetable:

Action | Date | FR Cite
NPRM | 03/00/23 |

Regulatory Flexibility Analysis Required: Yes.

Agency Contact: Sayler Palabrica, Department of Transportation, Pipeline and Hazardous Materials Safety Administration, 1200 New Jersey Avenue SE, District of Columbia, DC 20590, Phone: 202 366-0559, Email: sayler.palabrica@dot.gov.

RIN: 2137-AF51

395. +Pipeline Safety: Pipeline Operational Status [2137-AF52]

Legal Authority: 49 U.S.C. 60101 et seq.

Abstract: This rulemaking would amend the pipeline safety regulations to define an idled operational status for natural gas and hazardous liquid pipelines that are temporarily removed from service, set operations and maintenance requirements for idled pipelines, and establish inspection requirements for idled pipelines that are returned to service. The proposed rule is necessary to respond to a mandate from the Protecting our Infrastructure of Pipelines and Enhancing Safety Act of 2020.

Timetable:

Action | Date | FR Cite
NPRM | 11/00/23 |

Regulatory Flexibility Analysis Required: Yes.

Agency Contact: Sayler Palabrica, Department of Transportation, Pipeline and Hazardous Materials Safety Administration, 1200 New Jersey Avenue SE, District of Columbia, DC 20590, Phone: 202 366-0559, Email: sayler.palabrica@dot.gov.

RIN: 2137-AF52

396. +Pipeline Safety: Safety of Gas Distribution Pipelines and Other Pipeline Safety Initiatives [2137-AF53]

Legal Authority: 49 U.S.C. 60101 et seq.

Abstract: This rulemaking would amend the pipeline safety regulations to enhance the safety requirements for gas distribution pipelines. The proposed rule is necessary to respond to several mandates from title II of the Protecting our Infrastructure of Pipelines and Enhancing Safety Act of 2020 (PIPES Act of 2020).

Timetable:

Action | Date | FR Cite
NPRM | 05/00/23 |

Regulatory Flexibility Analysis Required: Yes.

Agency Contact: Ashlin Bollacker, Technical Writer, Department of Transportation, Pipeline and Hazardous Materials Safety Administration, 1200 New Jersey Avenue SE, Washington, DC 20590, Phone: 202 366-4203, Email: ashlin.bollacker@dot.gov.

RIN: 2137-AF53

DEPARTMENT OF TRANSPORTATION (DOT)

Pipeline and Hazardous Materials Safety Administration (PHMSA)

Final Rule Stage

397. +Hazardous Materials: Enhanced Safety Provisions for Lithium Batteries Transported by Aircraft (FAA Reauthorization Act of 2018) [2137-AF20]

Legal Authority: 49 U.S.C. 44701; 49 U.S.C. 5103(b); 49 U.S.C. 5120(b)

Abstract: This rulemaking amends the Hazardous Materials Regulations (HMR) to (1) prohibit the transport of lithium ion cells and batteries as cargo on passenger aircraft; (2) require all lithium ion cells and batteries to be shipped at not more than a 30 percent state of charge on cargo-only aircraft; and (3) limit the use of alternative provisions for small lithium cell or battery to one package per consignment. The amendments do not restrict passengers or crew members from bringing personal items or electronic devices containing lithium cells or batteries aboard aircraft, or restrict the air transport of lithium ion cells or batteries when packed with or contained in equipment. To accommodate persons in areas potentially not serviced daily by cargo aircraft, PHMSA provides a limited exception for not more than two replacement lithium cells or batteries specifically used for medical devices to be transported by passenger aircraft and at a state of charge greater than 30 percent, under certain conditions and as approved by the Associate Administrator. This rulemaking is necessary to meet the FAA Reauthorization Act of 2018, address a safety hazard, and harmonize the HMR with emergency amendments to the 2015-2016 edition of the International Civil Aviation Organization's Technical Instructions for the Safe Transport of Dangerous Goods by Air.

Timetable:

Action | Date | FR Cite
Interim Final Rule | 03/06/19 | 84 FR 8006
Interim Final Rule Effective | 03/06/19 |
Interim Final Rule Comment Period End | 05/06/19 |
Final Rule | 01/00/23 |

Regulatory Flexibility Analysis Required: Yes.

Agency Contact: Eugenio Cardez, Transportation Regulations Specialist, Department of Transportation, Pipeline and Hazardous Materials Safety Administration, 1200 New Jersey Avenue SE, Washington, DC 20590, Phone: 202 366-8553, Email: eugenio.cardez@dot.gov.

RIN: 2137-AF20

DEPARTMENT OF TRANSPORTATION (DOT)

Pipeline and Hazardous Materials Safety Administration (PHMSA)

Completed Actions

398. +Pipeline Safety: Amendments to Parts 192 and 195 To Require Valve Installation and Minimum Rupture Detection Standards [2137-AF06]

Legal Authority: 49 U.S.C. 60101 et seq.

Abstract: This rulemaking action would revise the Pipeline Safety Regulations applicable to most newly constructed and entirely replaced onshore natural gas transmission and hazardous liquid pipelines to improve rupture mitigation and shorten pipeline segment isolation times. The rulemaking action would define “notification of potential rupture” and outline certain performance standards related to rupture identification and pipeline segment isolation. This rulemaking action also would require specific valve maintenance and inspection requirements, and 9-1-1 notification requirements to help operators achieve better rupture response and mitigation.

Timetable:

Action | Date | FR Cite
NPRM | 02/06/20 | 85 FR 7162
NPRM Comment Period End | 04/06/20 |
Final Rule | 04/08/22 | 87 FR 20940
Final Rule Effective | 10/05/22 |

Regulatory Flexibility Analysis Required: Yes.

Agency Contact: Robert Jagger, Technical Writer, Department of Transportation, Pipeline and Hazardous Materials Safety Administration, 1200 New Jersey Avenue SE, Washington, DC 20590, Phone: 202 366-4595, Email: robert.jagger@dot.gov.

RIN: 2137-AF06

[FR Doc. 2023-02031 Filed 2-21-23; 8:45 am]

BILLING CODE 4910-60-P